ENVIRONMENTAL PROTECTION AGENCY

[FRL-8716-8]

Proposed Agreement Pursuant to Section 122(h)(1) of the Comprehensive Environmental Response, Compensation, and Liability Act for the Bofors Nobel Site

AGENCY: Environmental Protection Agency (“EPA”).

ACTION: Notice; Request for public comment on proposed CERCLA 122(h)(1) agreement with Normand Phaneuf for the Bofors Nobel Superfund Site.

SUMMARY: In accordance with section 122(i)(1) of the Comprehensive Environmental Response, Compensation and Liability Act of 1980, as amended (“CERCLA”), notification is hereby given of a proposed administrative agreement concerning the Bofors Nobel hazardous waste site in Muskegon, Michigan (the “Site”). EPA proposes to enter into this agreement under the authority of section 122(h) and 107 of CERCLA. The proposed agreement has been executed by Normand Phaneuf. (the “Settling Party”).

Under the proposed agreement, the Settling Party will pay $50,000 to the Hazardous Substances Superfund to resolve EPA's claims against the Settling Party for response costs incurred by EPA at the Site. EPA has incurred response costs investigating and performing response actions at the Site, and overseeing response actions performed by other parties at the Site to mitigate potential imminent and substantial endangerments to human health or the environment presented or threatened by hazardous substances present at the Site.

For thirty days following the date of publication of this notice, the EPA will receive written comments relating to this proposed agreement. EPA will consider all comments received and may decide not to enter this proposed agreement if comments disclose facts or considerations which indicate that the proposed agreement is inappropriate, improper or inadequate.

DATES: Comments on the proposed agreement must be received by EPA on or before October 17, 2008.

ADDRESSES: Comments should be addressed to the Docket Clerk, U.S. Environmental Protection Agency, Region 5, 77 West Jackson Boulevard, Chicago, Illinois 60604-3590, and should refer to: In the Matter of Bofors Nobel Site, Chicago, Illinois, U.S. EPA Docket No. V-W-08C-889.

FOR FURTHER INFORMATION CONTACT: Thomas J. Krueger, U.S. Environmental Protection Agency, Office of Regional Counsel, C-14J, 77 West Jackson Boulevard, Chicago, Illinois 60604-3590, (312) 886-0562.

A copy of the proposed administrative settlement agreement may be obtained in person or by mail from the EPA's Region 5 Office of Regional Counsel, 77 West Jackson Boulevard, Chicago, Illinois 60604-3590. Additional background information relating to the settlement is available for review at the EPA's Region 5 Office of Regional Counsel.

Authority: The Comprehensive Environmental Response, Compensation, and Liability Act, as amended, 42 U.S.C. 9601-9675.

Douglas Ballotti,
Acting Director, Superfund Division, Region 5.

[FR Doc. E8-21712 Filed 9-16-08; 8:45 am]

BILLING CODE 6560-50-P